DEPARTMENT OF TRANSPORTATION

Federal Motor Carrier Safety Administration

[Docket Nos. FMCSA-2006-26367 and FMCSA-2011-0131]

Motor Carrier Safety Advisory Committee (MCSAC): Public Meeting Medical Review Board: Joint Public Meeting With MCSAC

AGENCY: Federal Motor Carrier Safety Administration (FMCSA), DOT.

ACTION: Notice of Meeting of Motor Carrier Safety Advisory Committee (MCSAC) and Joint Meeting with the Medical Review Board (MRB).

SUMMARY: FMCSA announces that MCSAC will hold a meeting on Monday-Thursday, February 6-9, 2012, which will include a joint meeting on Monday, February 6, 2012, with the MRB to finalize recommendations of the joint MCSAC-MRB subcommittee to the FMCSA Administrator on obstructive sleep apnea. The MCSAC will meet separately on Tuesday-Thursday, February 7-8, 2012, where it will consider issues relating to the prevention of harassment of truck and bus drivers through electronic on-board recorders (EOBRs). On Thursday, February 9, there will be a preliminary discussion of ideas and concepts the MCSAC believes the Agency should consider concerning motorcoach hours-of-service (HOS). All four days of the meeting will be open to the public.

Time and Dates: The meetings will be held on Monday-Wednesday, February 6-8, 2012, from 8:30 a.m. to 5 p.m., Eastern Time (E.T.), and on Thursday, February 9, 2012, from 8:30 a.m. to 12 p.m., E.T. The meetings will be held at the Hilton Alexandria Old Town, 1767 King Street, Alexandria, VA 22314 in the Washington and Jefferson Rooms on the 2nd floor. The Hilton Alexandria Old Town is located across the street from the King Street Metro station.

Copies of all MCSAC Task Statements and an agenda for the entire 4-day meeting will be made available in advance of the meeting at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals With Disabilities

For information on facilities or services for individuals with disabilities or to request special assistance at the meeting, contact Elizabeth Turner at (617) 494-2068, elizabeth.turner@dot.gov, by Wednesday, February 1, 2012.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The MCSAC provides advice and recommendations to the FMCSA Administrator on motor carrier safety programs and regulations, and operates in accordance with the Federal Advisory Committee Act (FACA, 5 U.S.C. App. 2).

MRB

Section 4116 of the SAFETEA-LU requires the Secretary of Transportation, with the advice of the MRB, to “establish, review, and revise medical standards for operators of CMVs [commercial motor vehicles] that will ensure that the physical condition of operators of CMVs is adequate to enable them to operate the vehicles safely.” On November 2, 2010, the Secretary of Transportation announced the five medical experts who serve on the MRB. FMCSA is planning revisions to the physical qualification regulations of CMV drivers, and the MRB will provide the necessary science-based guidance to establish realistic and responsible medical standards. The MRB operates in accordance with FACA.

Sleep Apnea and Other Sleep Disorders

The MCSAC and the MRB joint subcommittee on obstructive sleep apnea will report to the full MCSAC and MRB committees its recommendations on ideas and concepts the Agency should consider for a future rulemaking on obstructive sleep apnea. The full committees will consider the report and submit recommendations to the FMCSA Administrator.

Hours-of-Service (HOS) for Drivers of Passenger-Carrying CMVs

The MCSAC will begin consideration of Task 11-06, concerning ideas and concepts the Agency should consider in deciding whether to initiate a rulemaking to amend or revise the HOS requirements for drivers of passenger-carrying CMVs.

Driver Harassment

On August 26, 2011, the Seventh Circuit Court of Appeals vacated the Agency's April 2010 final rule concerning EOBRs because the agency failed to consider a statutory mandate to “ensure that [EOBRs] are not used to harass vehicle operators” Owner-Operator Indep. Drivers Ass'n et al. v. Fed. Motor Carrier Safety Admin., 656 F.3d 580 (7th Cir. 2011). The FMCSA has requested that the MCSAC provide ideas and concepts on how the Agency could address the statutory mandate in a future EOBR rulemaking.

II. Meeting Participation

Oral comments from the public will be heard during the last hour of the meetings on Monday-Wednesday, and during the last 15 minutes of the meeting on Thursday. Members of the public may submit written comments on the topics to be considered during the meeting by Wednesday, February 1, 2012, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: January 19, 2012.
Larry W. Minor,
Associate Administrator for Policy.

[FR Doc. 2012-1401 Filed 1-23-12; 8:45 am]

BILLING CODE P